DEPARTMENT OF EDUCATION

National Assessment Governing Board

Solicitation of Public Comments for Updating the Science Assessment Framework for the 2028 National Assessment of Educational Progress (NAEP)

AGENCY: National Assessment Governing Board, U.S. Department of Education.

ACTION: Notice of opportunity for preliminary public comment for the Science Assessment Framework for the 2028 National Assessment of Educational Progress (NAEP).

SUMMARY: The National Assessment Governing Board (Governing Board) is soliciting public comment for preliminary guidance in updating the Assessment Framework for the 2028 National Assessment of Educational Progress (NAEP) in Science.

SUPPLEMENTARY INFORMATION: The Governing Board is authorized to formulate policy guidelines for NAEP. Section 302(e)(1)(c) of Public Law 107-279 specifies that the Governing Board determines the content to be assessed for each NAEP Assessment. Each NAEP subject area assessment is guided by a framework that defines the scope of the domain to be measured by delineating the knowledge and skills to be tested at each grade and subject, the format of the assessment, and the achievement level descriptions—guiding assessments that are valid, reliable, and reflective of widely accepted professional standards. The NAEP Science Assessment Framework was last revised in 2005 (and most recently used for the 2019 NAEP Science Assessment). Comments received in response to this notice will be utilized to inform Governing Board decisions on the extent of revisions needed to update the NAEP Science Assessment Framework. A Governing Board charge to launch the framework revision process is anticipated at the March 2022 quarterly Board meeting.

Public and private parties and organizations are invited to provide written comments and recommendations relative to the current framework, adopted in 2005. Comments should specifically address: (a) Whether the 2019 NAEP Science Framework needs to be updated; (b) if the framework needs to be updated, why a revision is needed; and (c) what should a revision to the framework include? This notice sets forth the review schedule and provides information for accessing additional materials that will be informative and useful for this review.

Assessment and Item Specifications elaborate on the framework as guidance for item development conducted by the National Center for Education Statistics (NCES) and the NAEP assessment development contractor(s). The framework development and update process also produces recommendations for contextual variables, which supports NCES' development of the questionnaires administered to students, teachers, and schools to help the public understand the achievement results in each subject. By engaging NAEP's audiences, partners, and stakeholders in the panels that provide recommendations for NAEP frameworks and by seeking public comment, NAEP frameworks reflect content valued by the public as important to measure. Additional information on the Governing Board's work in developing NAEP Frameworks and Specifications can be found at https://www.nagb.gov/naep-frameworks/frameworks-overview.html.

All responses will be taken into consideration before finalizing the recommendations for updating the NAEP Science Assessment Framework. Once finalized, recommendations will be used to guide a framework update process, if an update is needed for the 2028 NAEP Science Assessment.

Comments shall be submitted via email to nagb@ed.gov with the email subject header NAEP Science Framework no later than 5:00 p.m. Eastern Time on Thursday, September 30. It is anticipated that public comments will be shared and discussed publicly in upcoming Governing Board meetings and materials. When providing comment, please indicate if you are not comfortable with your name and affiliation being included with the comments that will be shared publicly by the Governing Board in its deliberations.

Additional information (including the materials referenced below) can be found on the project website at https://www.nagb.gov/naep-frameworks/science/science-framework-feedback.html.

Existing Science Framework for the NAEP

The existing framework (adopted in 2005) can be downloaded from the Governing Board website at https://www.nagb.gov/naep-frameworks/science.html.

Governing Board's Periodic Review and Updating of NAEP Frameworks

Governing Board policy articulates the Board's commitment to a comprehensive, inclusive, and deliberative process to determine and update the content and format of all NAEP assessments. For each NAEP assessment, this process results in a NAEP framework, outlining what is to be measured and how it will be measured. Periodically, the Governing Board reviews existing NAEP frameworks to determine if changes are warranted. Each NAEP framework development and update process considers a wide set of factors, including but not limited to reviews of recent research on teaching and learning, changes in state and local standards and assessments, and the latest perspectives on the nation's future needs and desirable levels of achievement.

In 2021, the Board is initiating a preliminary review of the NAEP Science Framework. The Governing Board's NAEP Science Framework review will use general public comment collected through this notice as well as expert commentary to determine whether a framework update is required and the type of updates that may be needed. Learn more about framework update processes at https://www.nagb.gov/content/dam/nagb/en/documents/naep/NAEP-Frameworks-FAQ_FINAL.pdf.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U. S. Department of Education.

[FR Doc. 2021-17676 Filed 8-17-21; 8:45 am]

BILLING CODE 4000-01-P